NATIONAL CREDIT UNION ADMINISTRATION

Sunshine Act; Notice of Agency Meeting

Time and Date: 10 a.m., Thursday, January 22, 2009.

Place: Board Room, 7th Floor, Room 7047, 1775 Duke Street, Alexandria, VA 22314-3428.

Status: Open.

Matters to be Considered:

1. Final Rule—Section 740.4 of NCUA's Rules and Regulations, Requirements for the Official Sign.

2. Public Notice—Central Liquidity Facility.

3. Insurance Fund Report.

Recess: 11 a.m.

Time and Date: 11:15 a.m., Thursday, January 22, 2009.

Place: Board Room, 7th Floor, Room 7047, 1775 Duke Street, Alexandria, VA 22314-3428.

Status: Closed.

Matters to be Considered:

1. Appeal under section 701.14 and Part 747, Subpart J of NCUA's Rules and Regulations. Closed pursuant to Exemptions (6) and (8).

2. Personnel. Closed Pursuant to Exemption (2).

FOR FURTHER INFORMATION CONTACT: Mary Rupp, Secretary of the Board, Telephone: 703-518-6304

Mary Rupp,
Board Secretary.

[FR Doc. E9-1312 Filed 1-16-09; 11:15 am]

BILLING CODE 7535-01-P